FEDERAL TRADE COMMISSION

16 CFR Part 305

[3084-AB15]

Disclosures Regarding Energy Consumption and Water Use of Certain Home Appliances and Other Products Required Under the Energy Policy and Conservation Act (“Appliance Labeling Rule”)

AGENCY: Federal Trade Commission (“FTC” or “Commission”).

ACTION: Proposed Rule and Proposed Conditional Exemption.

SUMMARY: The Commission proposes to amend the Appliance Labeling Rule (“Rule”) by updating ranges of comparability and unit energy cost figures for many EnergyGuide labels. The Commission also seeks comment on a proposed exemption request by the Association of Home Appliance Manufacturers (AHAM) to help consumers compare the labels on refrigerators and clothes washers after the implementation of upcoming changes to the Department of Energy test procedures for those products.

DATES: Comments must be received by March 1, 2013.

ADDRESSES: Interested parties may file a comment online or on paper by following the instructions in the Request for Comment part of the SUPPLEMENTARY INFORMATION section below. Write “Energy Label Ranges, Matter No. R611004” on your comment, and file your comment online at https://ftcpublic.commentworks.com/ftc/energylabelranges by following the instructions on the Web-based form. If you prefer to file your comment on paper, mail or deliver your comment to the following address: Federal Trade Commission, Office of the Secretary, Room H-113 (Annex U), 600 Pennsylvania Avenue NW., Washington, DC 20580.

FOR FURTHER INFORMATION CONTACT: Hampton Newsome, (202) 326-2889, Attorney, Division of Enforcement, Bureau of Consumer Protection, Federal Trade Commission, Room M-8102B, 600 Pennsylvania Avenue NW., Washington, DC 20580.

SUPPLEMENTARY INFORMATION:

I. Background

The Commission issued the Appliance Labeling Rule (“Rule”) in 1979,¹ in response to a directive in the Energy Policy and Conservation Act of 1975 (EPCA).² The Rule requires energy labeling for major home appliances and other consumer products, to help consumers compare competing models. When first published, the Rule applied to eight categories: refrigerators, refrigerator-freezers, freezers, dishwashers, water heaters, clothes washers, room air conditioners, and furnaces. The Commission subsequently expanded the Rule's coverage to include central air conditioners, heat pumps, plumbing products, lighting products, ceiling fans, and televisions. The Commission is currently conducting a regulatory review of the Rule.³

¹ 44 FR 66466 (Nov. 19, 1979) (Rule's initial promulgation).

² 42 U.S.C. 6294. EPCA also requires the Department of Energy (“DOE”) to develop test procedures that measure how much energy appliances use, and to determine the representative average cost a consumer pays for different types of energy.

³ 77 FR 15298 (Mar. 15, 2012) (regulatory review). The Commission currently has two other open proceedings related to other proposed amendments for the Rule. See 77 FR 33337 (June 6, 2012) (proposed changes to furnace and central air conditioner labels); 76 FR 45715 (Aug. 1, 2011) (proposed expanded light bulb coverage).

The Rule requires manufacturers to attach yellow EnergyGuide labels on many of these products, and prohibits retailers from removing the labels or rendering them illegible. In addition, the Rule directs sellers, including retailers, to post label information on Web sites and in paper catalogs from which consumers can order products. EnergyGuide labels for covered appliances must contain three key disclosures: estimated annual energy cost (for most products); a product's energy consumption or energy efficiency rating as determined from Department of Energy (DOE) test procedures; and a comparability range displaying the highest and lowest energy costs or efficiency ratings for all similar models. For energy cost calculations, the Rule specifies national average costs for applicable energy sources (e.g., electricity, natural gas, oil) as calculated by DOE. The Rule sets a five-year schedule for updating range of comparability and annual energy cost information.⁴ The Commission updates the range information based on manufacturer data submitted pursuant to the Rule's reporting requirements.

⁴ 16 CFR 305.10.

II. Proposed Amendments

As discussed below, the Commission proposes to update the comparability ranges (Appendices A-J to Part 305) and national average energy cost figures (Appendix K to Part 305) for many EnergyGuide labels consistent with its five-year schedule. This Notice also contains several minor, proposed revisions and updates to the label's content, some of which were suggested by commenters as part of the Commission's ongoing regulatory review. To avoid requiring multiple label revisions within a short time period, the Commission proposes to require these label content changes concurrently with the range updates. Finally, the Commission proposes to grant a request from the Association of Home Appliance Manufacturers (AHAM) seeking an exemption related to labeling requirements for refrigerators, refrigerator-freezers, and freezers (hereinafter referred to as “refrigerators”), and clothes washers to address recent DOE test procedure changes.

A. Comparability Range and Energy Cost Revisions

In accordance with the Rule's five-year schedule for label updates, the Commission publishes proposed revisions to the comparability range and energy cost information for many products bearing EnergyGuide labels.⁵ The comparability ranges (i.e., scales) show the highest and lowest energy costs or energy efficiency ratings of models similar to the labeled product. The Commission derives these ranges from annual data submitted by manufacturers.⁶ In addition, the Commission is updating the average energy cost figures (e.g., 12 cents per kWh) manufacturers must use to calculate a model's estimated energy cost for the label based on national average cost figures published by DOE.⁷ To effect these changes, the Commission proposes amendments to the applicable tables in the Rule's appendices. Manufacturers must begin using this new information within 90 days after publication of a final notice in this proceeding. To aid manufacturers in transitioning to the new ranges, FTC staff will provide sample label template files on its Web site.⁸

⁵ 16 CFR 305.10.

⁶ In addition to revising existing comparability ranges, the Commission proposes to include a new range for instantaneous electric water heaters (Appendix D6).

⁷ 77 FR 29940 (Apr. 26, 2012) (DOE notice for “Representative Average Unit Costs of Energy”).

⁸ The Commission will also update the prototype and sample labels in the Rule's appendices to reflect the new range and cost information as well as the minor label content changes proposed in this Notice when it publishes a final rule regarding the ranges.

At this time, the Commission does not propose to alter range and cost information for EnergyGuide labels on four product categories (refrigerators, clothes washers, furnaces and central air conditioners, and televisions) given upcoming DOE regulatory changes applicable to those products.⁹ Instead, the Commission proposes waiting to synchronize the changes with the impending DOE regulations. By doing so, the Commission would avoid several label changes in a short time period, a practice that could confuse consumers and burden manufacturers.

⁹ For refrigerators and clothes washers, as discussed in Section II.B. below, the Commission proposes to update range and cost information after the upcoming implementation of revised DOE standards and test procedures, which will significantly change energy use data for those products. See infra note 19. Similarly, for furnace and central air conditioner labels, the Commission recently announced plans to issue range data to coincide with new DOE efficiency standards scheduled to become effective next year. 77 FR 33337 (June 6, 2012) (proposed FTC rule). Finally, for televisions, the Commission will issue revisions to the television ranges in 16 CFR 305.17 after DOE adopts a recently proposed test procedure. 77 FR 2830 (Jan. 19, 2012) (proposed DOE test procedure). The Commission will also establish an annual reporting schedule for television manufacturers at that time. EPCA requires annual reporting based on DOE test procedures. Because no DOE television test procedure currently exists, the Rule currently contains no reporting requirements. 42 U.S.C. 6296(b)(4) (FTC annual reporting requirements tied to DOE test procedure); 16 CFR 305.8 (FTC reporting requirements). In addition, these amendments do not affect recently revised labeling requirements for lighting products. 75 FR 41696 (July 19, 2010). The Rule has separate provisions in § 305.15 for energy cost disclosures on lighting products.

B. Proposed Revisions and Updates to Label Content

In addition to the proposed range and cost updates, the proposed amendments contain five minor label changes to simplify and improve the disclosures. The Commission also seeks comment on the possible elimination of range information on television labels. Finally, the Commission seeks comment on the potential increase in the frequency of changes to range and cost information on all EnergyGuide labels.

First, consistent with recently implemented FTC labeling requirements for light bulb and television labels,¹⁰ the proposed rule rounds to the nearest cent the national average electricity (12 cents per kWh) and natural gas ($1.06 per therm) cost figures (in Appendix K) used to calculate the label's estimated annual operating (energy) cost. In the past, the Rule has expressed these figures as a fraction of a cent (e.g., 11.85 cents per kWh). A cost figure rounded to cents should be more familiar to consumers and should not have any negative impact on the label's utility because any differences in cost from such rounding will be very small and apply to all models.¹¹

¹⁰ 75 FR 41696 (July 19, 2010) (light bulbs); 76 FR 1038 (Jan. 6, 2011) (televisions).

¹¹ DOE's 2012 national average energy cost data lists electricity at 11.84 cents/kWh. 77 FR 24940 (Apr. 26, 2012) (DOE fuel cost update). Accordingly, the FTC's proposed amendments require manufacturers to use 12 cents/kWh in calculating energy cost for affected labels.

Second, also consistent with the recent television and light bulb labeling requirements, the proposed amendments further simplify the label's cost disclosure by eliminating reference to the cost rate's year in § 305.11(f). Currently, the label identifies the year of the underlying energy cost rate (e.g., “based on a 2007 national average electricity cost of 10 cents per kWh”). This date remains on the label for five years. For example, labels for a product introduced in 2011 state that the cost figure derives from a 2007 national average. However, because energy rates can increase and decrease from year to year, the benefit of disclosing this detail on the label does not appear significant. More importantly, this disclosure could cause confusion. For instance, the “2007” reference in the example above may incorrectly suggest to some consumers that the product itself was produced in 2007. To avoid these problems, the Commission proposes to eliminate the reference to the year. The label would simply read “based on a national average electricity cost of * * *.”

Third, based on comments in the ongoing regulatory review for the Rule, the Commission proposes to include a new disclosure on room air conditioners (§ 305.11(f)) explaining that the cost estimate is based on an assumed 750 hours of operation a year.¹² Similar estimates already appear on other labels (e.g., four loads per week for dishwashers and five hours per day for televisions). This change should help consumers gauge the product's estimated energy cost in the context of their own use. Fourth, the amendments replace the term “operating cost” with “energy cost” on EnergyGuide labels for appliances (§ 305.11(f)). The term “energy” ties the disclosure directly to the label's purpose (i.e., disclosing the product's energy use) and is consistent with new labels for televisions and light bulbs. Finally, the amendments make a conforming change to the Web site address on the label, from www.ftc.gov/appliances to www.ftc.gov/energy.

¹² Joint Comments from Energy-Efficiency and Consumer Organizations (May 16, 2012) (#560957-00015) available at http://www.ftc.gov/os/comments/energylabelamend/00015-83010.pdf.

In addition to these minor changes, the Commission seeks comment on whether to retain range information on television labels.¹³ In comments related to the regulatory review of the overall Rule, the Consumer Electronics Association (CEA) argued that the comparability ranges on the EnergyGuide labels become obsolete soon after they are issued because the television market changes so frequently.¹⁴ As a result, the estimated energy costs for many models fall outside the range depicted on the label, limiting the label's utility. CEA also noted that, in lieu of the ranges on labels, consumers can rely on other sources, including consumer and trade publications and product reviews, to obtain comparative energy information for televisions. In response, the Commission seeks comment on whether to eliminate range information from future updates of the television label. Comments should address whether range information is useful, whether the model's energy cost information provides an adequate comparative tool for consumers shopping in stores and online, and whether there are sufficient alternatives to provide comparability information to consumers.

¹³ 16 CFR 305.17(f).

¹⁴ CEA comments (May 16, 2012) (#560957-00012) available at http://www.ftc.gov/os/comments/energylabelamend/560957-00012-83006.pdf. EPCA grants the Commission discretion to include (or exclude) range information for television labels. 42 U.S.C. 6296(c)(9). However, once DOE issues a final test procedure, manufacturers will have to submit energy data whether or not the label displays a range. 42. U.S.C. 6296(b)(4).

Finally, the Commission seeks comment on whether to update range and cost information more frequently than every five years.¹⁵ In comments on the regulatory review, several energy-efficiency organizations suggested that the FTC follow a three-year schedule to update national average energy cost figures and the comparison ranges for most products. They also recommended a two-year schedule for products with rapidly changing efficiencies and quicker sell-through periods, such as televisions.¹⁶ The commenters argued that the current schedule fails to keep pace with efficiency improvements of new models. Similarly, in their view, the five-year schedule does not update the label's average cost figures frequently enough. In support of these observations, the commenters noted recent dishwasher market changes brought on by new DOE standards as well as an approximately 10% increase in national average electricity costs over the last few years.

¹⁵ 16 CFR 305.10(a).

¹⁶ Joint Comments from Energy-Efficiency and Consumer Organizations (May 16, 2012) (#560957-00015) available at http://www.ftc.gov/os/comments/energylabelamend/00015-83010.pdf.

In establishing the five-year schedule, the Commission recognized the potential benefits of more frequent changes to cost and range information.¹⁷ However, the Commission concluded that the need for consistent label information is paramount and, on balance, deserves greater weight than the need for more frequent updates. In doing so, the Commission focused on the need to minimize frequent label changes, noting that inconsistent cost and range information for competing models in showrooms and catalogs can lead to consumer confusion and a lack of confidence in the label. In the Commission's view, the five-year schedule strikes a reasonable balance between maintaining consistent disclosures and providing frequent updates. Accordingly, the Commission is not proposing to change the current schedule. However, the Commission seeks further comment on whether it should adopt the commenters' suggestions to implement a three-year schedule.

¹⁷ 72 FR 49948, 49959 (Aug. 29, 2007) (rulemaking on effectiveness of the EnergyGuide label).

C. Proposed Conditional Exemption for Refrigerators and Clothes Washers

In response to a request from the Association of Home Appliance Manufacturers (AHAM),¹⁸ the Commission proposes a conditional exemption and rule amendments for refrigerators and clothes washers. New DOE testing procedures for these products, issued in conjunction with new efficiency standards, change the methods for calculating a model's energy use and, as a result, will trigger substantial changes to the energy information disclosed on EnergyGuide labels.¹⁹ To aid consumers in their comparison shopping during this transition, the Commission proposes a distinct label for models tested under the new DOE procedure to be used both during this transition and afterward. In addition, the Commission proposes to allow manufacturers to begin labeling new models using the new DOE test procedures several months before the DOE compliance dates to ease the burden associated with transition to the new test procedures.²⁰

¹⁸ AHAM comments (July 17, 2012) (#560957-00023) at http://www.ftc.gov/os/comments/energylabelamend/00023-83190.pdf and (Sept. 11, 2012) (#560957-00025) at http://www.ftc.gov/os/comments/energylabelamend/560957-00025-84112.pdf.

¹⁹ 76 FR 57516 (Sept. 15, 2011) (refrigerator standards); 77 FR 3559 (Jan. 25, 2012) (refrigerator test procedure); 77 FR 32308 (May 31, 2012) (clothes washer standards); 77 FR 13888 (Mar. 7, 2012) (clothes washer test procedure). DOE rules require compliance with the new test procedures for all refrigerators by September 15, 2014 and for all clothes washers by March 7, 2015.

²⁰ The Commission issued similar modifications in 2003 for clothes washer labels in response to changes in the DOE test procedure. 68 FR 23584 (May 5, 2003).

AHAM submitted its request in anticipation of upcoming DOE energy conservation standards and test procedures for refrigerators (effective on September 15, 2014) and clothes washers (effective on March 7, 2015). The new, more stringent conservation standards will render a substantial portion of existing refrigerator and clothes washer models obsolete. In addition, the updated test procedures will yield substantially different results than the current ones. According to AHAM, the new refrigerator test procedure will increase the measured energy use of refrigerators by approximately 14%, though the increase will vary between product classes, manufacturers, and even individual models.²¹ In addition, the new clothes washer test procedure bases annual energy use estimates on 295 cycles per year (approximately six per week), instead of the current 392 cycles (approximately eight per week), thus reducing stated energy costs on the EnergyGuide labels by about 25%.²²

²¹ AHAM comments (May 16, 2012) (#560957-0013) at http://www.ftc.gov/os/comments/energylabelamend/00013-83038.pdf.

²² See 77 FR 13888, 13933 (Mar. 7, 2012) (DOE clothes washer test procedure). The new DOE test procedure also includes the cost of energy consumed in non-active wash modes.

AHAM notes that after manufacturers start to test their products using the new procedures, showrooms and Web sites will contain some models tested under the old procedure and others tested under the new one. In AHAM's view, the resulting mix of EnergyGuide labels could severely hamper consumers in making fair product comparisons.

To help facilitate the transition to the new efficiency standards and to aid shoppers who compare products during this period, AHAM proposed two measures. First, it seeks permission to use the new DOE tests for labeling models introduced prior to DOE's compliance dates. Second, it recommends different, transitional EnergyGuide labels for these models, to help consumers distinguish products tested under the new procedure from those tested under the old one. Specifically, AHAM proposes that new labels contain blue (cyan) text and include the statement: “Blue EnergyGuide Compares Only to Other Models with Blue EnergyGuides (due to new U.S. Government requirements).” ²³ AHAM's members want to begin using the new test procedures and transitional labels for models introduced after January 1, 2014 for refrigerators, and June 1, 2014 for clothes washers. AHAM also requested that the Commission continue to require this modified label for products tested under the new procedure until DOE makes another substantial change to the test procedure in the future.

²³ AHAM comments (Sept. 11, 2012) (#560957-00025) at http://www.ftc.gov/os/comments/energylabelamend/560957-00025-84112.pdf. In those comments, AHAM also recommended that the Commission omit a comparability range scale from the label until data from the new test procedures becomes available.

AHAM contends that these proposals will reduce burdens associated with upcoming regulatory changes, avoid consumer confusion, and encourage early introduction of high-efficiency models. The Commission generally agrees. The proposal should reduce burdens by allowing refrigerator and clothes washer manufacturers to roll out new high-efficiency models well before the DOE compliance date and thus avoid the logistical complications associated with designing, producing, and testing many models at the same time.²⁴ In addition, using transitional labels will avoid the display of a misleading mix of test results on EnergyGuide labels. Lastly, early compliance will provide an incentive for manufacturers to introduce models that meet the more stringent energy standards sooner, thus providing consumers with more high-efficiency choices.²⁵

²⁴ To facilitate the early introduction of these higher-efficiency models, DOE has announced that manufacturers may certify these models with DOE using the new test procedures, thus relieving them from having to test new models under both the old and new test procedures during the transition period. On June 29, 2012, DOE issued guidance permitting early compliance with new or amended test procedures and standards. See http://www1.eere.energy.gov/buildings/appliance_standards/pdfs/tp_faq_2012-06-29.pdf. Thus, in DOE's view, manufacturers may begin using the new test procedures before the dates specified for compliance.

²⁵ AHAM also requested guidance on whether manufacturers must change model numbers for products during the DOE transition period. Unless the manufacturer modifies the model in a way that affects its energy performance, the Commission does not recommend changing model numbers during the transition.

Therefore, the Commission proposes to exempt manufacturers from certain EnergyGuide testing and labeling requirements for new refrigerator and clothes washer models introduced before DOE's compliance dates. Specifically, the Commission proposes to grant a conditional exemption from the Rule's requirement that, for purposes of the EnergyGuide label, manufacturers use the estimated annual energy consumption derived from the test procedures presently required by DOE.²⁶ By granting the requested exemption, the Commission would allow manufacturers to begin using the results of DOE's new procedures and provide those results on EnergyGuide labels several months before the DOE compliance date.

²⁶ 16 CFR 305.5(a) and 305.11(a) (FTC testing and labeling); see also 10 CFR Part 430 (DOE test procedures).

The Commission proposes to grant this exception, but only to the extent required to allow manufacturers ²⁷ to use the new test procedures on refrigerator (including refrigerators, refrigerator-freezers, and freezers) and clothes washer models manufactured after January 1, 2014 (for refrigerators) and June 1, 2014 (for clothes washers). If a manufacturer continues to use the current test results for a particular model until the new procedures take effect, September 15, 2014 (for refrigerators) and March 7, 2015 (for clothes washers), it must continue to use the current label for that model up until those dates. Manufacturers would remain obligated to comply with all other Rule requirements. The Commission proposes to grant this exemption on the following additional conditions:

²⁷ Consistent with the Rule's requirements, the proposed exemption applies to both manufacturers and private labelers.

(1) For models manufacturers choose to test and label under the exemption, manufacturers must follow the new DOE test procedures in 10 CFR Part 430, Subpart B, Appendix A (refrigerators) and Appendix J2 (clothes washers) to determine the energy use figures printed on EnergyGuide labels; ²⁸

²⁸ Manufacturers also may use the new test procedures for labeling existing products during this period, but must follow all conditions of this exemption in doing so.

(2) For all such models, manufacturers must use EnergyGuide labels, as illustrated in Figures 1 and 2 of this Notice, with the energy cost and electricity use figures in yellow text framed by block boxes and containing the statement “Compare to other labels with yellow numbers. Appliances that have labels with black numbers were tested differently to estimate cost and electricity used.” ²⁹

²⁹ The Commission does not propose a cyan (blue) label as suggested by AHAM because cyan text on yellow background would be difficult to read, especially for smaller text. In addition, the cyan ink could cause confusion with regard to ENERGY STAR certification given that cyan is the color commonly used for ENERGY STAR logos. By retaining the yellow and black format, the proposed label will not change the printing cost associated with the labels.

(3) For all such models, manufacturers must print the estimated energy cost on the label above the center of the comparability range, and the following statement must appear directly below the range: “Cost Range Not Available,” as illustrated in Figures 1 and 2 of this Notice; ³⁰

³⁰ The Commission will publish range information for the new labels once energy data becomes available for refrigerators and clothes washers tested under the new procedure, most likely in 2015.

(4) For all such models, the label must state that the estimated energy cost is based on a national average electricity cost of 12 cents per kWh; and

(5) For all such clothes washer models, the label must state that the estimated energy cost is based on six wash loads per week and, as discussed below, must provide capacity in cubic feet.³¹

³¹ The new DOE test procedure changes the estimated weekly clothes washer cycles from 8 to 6. 77 FR 13888 (DOE clothes washer test procedure).

Second, to ensure consistency in labeling following the exemption period, the Commission proposes to amend the Rule at §§ 305.5(a) and 305.11 to require these new labels, as described in the five conditions above, after the test procedure transition. Thus, the new labels would apply to all refrigerators and clothes washers distributed on, or after, the DOE new test procedure compliance dates (September 15, 2014 for refrigerators and March 7, 2015 for clothes washers). This change should reduce consumer confusion in viewing labels that look alike but contain differently-calculated information.³² The Commission proposes to maintain this new label until DOE further amends the test procedures in the future beyond 2015. At that time, the Commission will consider changes to the label. In addition, once the Commission receives product data reflecting new and existing models tested under the new DOE procedures, it would issue new comparability ranges for those products.

³² To avoid confusion associated with the multiple rule amendments and effective dates covered by this Notice, the Commission has not included formal proposed rule language for the transitional labels. However, this Notice contains a full description of the proposal, including sample labels. In addition, the minor label changes proposed in section II.B. (i.e., fuel rates to the nearest cent and the use of “energy cost” instead of “operating cost”) would not be required for refrigerator and clothes washer labels until the new DOE test procedure compliance dates. (September 15, 2014 for refrigerators and March 7, 2015 for clothes washers).

The Commission seeks comment on the proposed exemption and associated amendments. In particular, the Commission requests input on whether the different results from the new and old DOE test procedures are significant enough to warrant the proposed label modifications. In addition, the Commission seeks comment on whether the proposed label changes are appropriate and will help consumers in their purchasing decisions. In particular, commenters should address whether the proposed labels will effectively communicate to consumers that they should not compare the old and new labels. In addition, commenters should identify any alternative disclosures or label design features that would be more effective than the proposed labels.

BILLING CODE 6750-01-P

BILLING CODE 6750-01-C

D. Additional Refrigerator and Clothes Washer Issues

In addition to the exemption request for a transitional label, the Commission has considered the following three issues related to refrigerators and clothes washers raised in response to the regulatory review notice: Changes to refrigerator range categories; disclosures for refrigerator models with optional icemakers; and capacity information for clothes washers.³³

³³ The Commission plans to consider other outstanding issues from the regulatory review at a later date.

Refrigerator Comparability Range Categories: The current rule organizes refrigerator comparability ranges by product configuration (e.g., models with top-mounted freezers) in Appendices A1-A8. The current requirements designate eight separate range categories for refrigerator models and three for freezer models.³⁴ These ranges disclose the energy costs associated with the most and least efficient models in a particular category. Specifically, for automatic-defrost refrigerator freezers, which typically populate the bulk of showroom floors, the Rule contains five categories (or styles): Side-by-side door models with and without through-the-door ice service; top-mounted freezer models with and without through-the-door ice service; and bottom-mounted freezer models. The Rule also has ranges for less common models including those with manual and partial defrost models, and refrigerator-only models.³⁵ These categories allow consumers to compare the energy use of similarly configured refrigerators.

³⁴ The Rule further divides each model category into several size classes (e.g., 19.5 to 21.4 cubic feet), each with its own comparability range.

³⁵ See 16 CFR part 305, Appendices A and B.

Several energy-efficiency and consumer groups urged the Commission to consolidate the comparability ranges into a single range covering all configurations.³⁶ They reasoned one range would allow consumers to compare a product's energy performance against all other models. AHAM opposed this approach, arguing that consolidation of the ranges for different configurations would cast fully-featured products that use more energy in an unfavorable light. AHAM also pointed to data suggesting that consumers usually replace their existing refrigerators with similarly configured models. AHAM acknowledged, however, that it had no detailed information directly addressing whether consumers shop with a specific configuration in mind. It concluded that, without clear data on consumer shopping habits, the Commission should refrain from changing the current ranges.³⁷

³⁶ Joint Comments from Energy-Efficiency and Consumer Organizations (May 16, 2012) (#560957-00015) available at http://www.ftc.gov/os/comments/energylabelamend/00015-83010.pdf.

³⁷ AHAM comments (Sept. 11, 2012) (#560957-00025) available at http://www.ftc.gov/os/comments/energylabelamend/560957-00025-84112.pdf.

The Commission does not propose any changes at this time. Without further opportunity for comment on a proposal and more information about consumer buying habits, the Commission is reluctant to alter existing requirements.³⁸ Once DOE's new standards become effective, the Commission will examine new range data from models on the market and consider whether to propose changes to the range categories.

³⁸ The consolidation of ranges also could cause conflicts and confusion with regard to the ENERGY STAR system, which sets efficiency levels based on different refrigerator configurations. For example, ENERGY STAR-qualified side-by-side door models are highly efficient compared to other side-by-side models but not necessarily compared to all other refrigerator-freezers. Therefore, if the comparison range on the EnergyGuide label included all configurations, some ENERGY STAR designated models will be higher on the cost range than some non-ENERGY STAR models. Before making any changes, the Commission needs to explore the overall costs and benefits of such a change.

Refrigerator Models with Optional Icemakers: Currently, refrigerator labels do not reflect icemaker energy consumption because the current DOE test procedure does not measure a model's icemaker operation. However, because the new DOE procedures will account for icemakers, the new labels will now include icemaker energy consumption for those products.³⁹

³⁹ 16 CFR 305.5 (FTC testing rules); 10 CFR Part 430, Subpart B, Appendix A (DOE refrigerator tests).

In light of this change, AHAM has raised concerns about labeling for so-called “kitable” refrigerator models (i.e., models that can be fitted with an icemaker before or after purchase).⁴⁰ The new DOE rules divide these products into categories (i.e., units with pre-installed icemakers and units without). Thus, each category will have its own EnergyGuide labels reflecting different levels of energy use. In comments to the Commission, AHAM has suggested that all “kitable” refrigerator labels disclose the energy use of the model shipped without the optional icemaker to avoid overstating energy costs for models that may never have an icemaker. In addition, AHAM suggests additional label language to inform retailers and consumers that the addition of an icemaker will increase the model's energy costs.

⁴⁰ AHAM comments (May 16, 2012, and October 31, 2012) at http://www.ftc.gov/os/comments/energylabelamend/00013-83038.pdf.

The Commission agrees that this proposal merits consideration. However, DOE plans to examine its designation of these models and thus may provide guidance that addresses AHAM's concerns.⁴¹ Accordingly, the Commission does not plan to impose any additional testing-related disclosures for these products until DOE has completed its deliberations.

⁴¹ 77 FR at 3569 (DOE notice on refrigerator testing).

Clothes Washer Capacity: In initiating the Rule's regulatory review, the Commission proposed to require specific capacity information in cubic feet on EnergyGuide labels for clothes washers.⁴² The Commission seeks additional comments on this issue. Current EnergyGuide labels indicate whether the model is “standard” or “compact,” but do not specify volume (e.g., 3.5 cubic feet). In the current market, most models fall into the broad “standard” size class (i.e., models with tub capacities greater than 1.6 cubic feet), but actual capacity among models varies significantly. Thus, the general capacity disclosure provides little assistance to consumers in distinguishing washer size. A specific capacity disclosure on the label should help consumers make important product comparisons. It would also complement recent DOE and industry efforts to ensure uniformity in capacity disclosures, which would provide consumers with usable information whether they are looking at EnergyGuide labels, manufacturer advertising, or DOE certification data.⁴³

⁴² 77 FR at 15302 (proposing to amend 16 CFR 305.7(g) to include clothes washer capacity on the label).

⁴³ See 75 FR 57556, 57575 (Sept. 21, 2010) (DOE clothes washer notice) and http://www.aham.org/ht/a/GetDocumentAction/i/51727.

AHAM objected to the Commission's proposal, arguing that it will greatly increase the number of labels manufacturers have to produce. According to AHAM, many washer models with different capacities have the same energy cost. Manufacturers currently print one label for such appliances. AHAM contended that the Commission's proposal would prevent this cost-savings. AHAM also argued consumers can access capacity information through other sources. In addition, it observed that industry members have already taken steps to ensure consistency in washer capacity claims. Thus, in AHAM's view, the Commission's proposal addresses a problem that no longer exists. In contrast, PG&E supported the specific capacity disclosure proposed in the regulatory review notice, suggesting it might “prompt consumers to think more critically about the utility of different sized washers, and also [their] associated energy and water requirements.” ⁴⁴

⁴⁴ Pacific Gas and Electric Company (PG&E) comments (May 15, 2012) (#00009) at http://www.ftc.gov/os/comments/energylabelamend/00009-82974.pdf.

The Commission continues to believe that detailed capacity information will help consumers in their purchasing decisions. The presence of capacity information allows consumers easily to consider the size and energy cost of models as they compare products in showrooms and Web sites, without repeatedly crosschecking washer capacity disclosed elsewhere in specifications and other marketing material. In addition, this approach is consistent with the EnergyGuide labels for most other covered products, which, among other things, allow consumers to gauge a model's energy cost against its size. Moreover, data for clothes washers certified to DOE suggests that the proposed change would require new labels for a small fraction of models.⁴⁵ Accordingly, it seems unlikely that the proposal would impose a substantial burden on manufacturers. The Commission seeks further comment on its proposal to require clothes washer capacity disclosures on the label.

⁴⁵ See DOE clothes washer data at https://www.regulations.doe.gov/ccms/.

III. Request for Comment

The Commission invites interested persons to submit written comments on any issue of fact, law, or policy that may bear upon the FTC's proposed labeling requirements. Please provide explanations for your answers and supporting evidence where appropriate. In addition, the Commission notes that it has accepted several late comments in its ongoing regulatory review proceeding.⁴⁶ To ensure that parties have an opportunity to address issues raised in those submissions, the Commission invites comments on any open issue in the regulatory review proceeding in addition to those issues raised in the present notice. Interested persons should follow the instructions below for filing any such comments on the regulatory review. After examining the comments, the Commission will determine whether to issue final amendments.

⁴⁶ 44 FR 66466 (Nov. 19, 1979) (regulatory review notice). The late comments are available at http://www.ftc.gov/os/comments/energylabelamend/index.shtm and include: AHAM (July 17, 2012, Sept. 12, 2012, and Oct. 31, 2012), Earthjustice (Dec. 3, 2012), Fanimation (July 17, 2012), Miele Inc. (Sept. 20, 2012), and Progress Lighting (June 25, 2012).

All comments should be filed as prescribed below, and must be received by March 1, 2013. Interested parties are invited to submit written comments electronically or in paper form. Comments should refer to “Energy Label Ranges, Matter No. R611004” to facilitate the organization of comments. Please note that your comment, including your name and your state, will be placed on the public record of this proceeding, including on the publicly accessible FTC Web site, at http://www.ftc.gov/os/publiccomments.shtm.

Because comments will be made public, they should not include any sensitive personal information, such as any individual's Social Security Number; date of birth; driver's license number or other state identification number, or foreign country equivalent; passport number; financial account number; or credit or debit card number. Comments also should not include any sensitive health information, such as medical records or other individually identifiable health information. In addition, comments should not include trade secret or any commercial or financial information which is obtained from any person and which is privileged or confidential as provided in Section 6(f) of the Federal Trade Commission Act (FTC Act, 15 U.S.C. 46(f)), and FTC Rule 4.10(a)(2) (16 CFR 4.10(a)(2)). Comments containing matter for which confidential treatment is requested must be filed in paper form, must be clearly labeled Confidential, and must comply with FTC Rule 4.9(c). Because paper mail addressed to the FTC is subject to delay due to heightened security screening, please consider submitting your comments in electronic form. Comments filed in electronic form should be submitted using the following weblink: https://ftcpublic.commentworks.com/ftc/energylabelranges (and following the instructions on the web-based form). To ensure that the Commission considers an electronic comment, you must file it on the web-based form at the weblink https://ftcpublic.commentworks.com/ftc/energylabelranges. If this Notice appears at http://www.regulations.gov/#!home, you may also file an electronic comment through that Web site. The Commission will consider all comments that regulations.gov forwards to it. You may also visit the FTC Web site at http://www.ftc.gov to read the Notice and the news release describing it.

A comment filed in paper form should include the Energy Label Ranges, Matter No. R611004 reference both in the text and on the envelope, and should be mailed or delivered to the following address: Federal Trade Commission, Office of the Secretary, Room H-113 (Annex U), 600 Pennsylvania Avenue NW., Washington, DC 20580. The FTC is requesting that any comment filed in paper form be sent by courier or overnight service, if possible, because U.S. postal mail in the Washington area and at the Commission is subject to delay due to heightened security precautions.

The FTC Act and other laws that the Commission administers permit the collection of public comments to consider and use in this proceeding as appropriate. The Commission will consider all timely and responsive public comments that it receives, whether filed in paper or electronic form. Comments received will be available to the public on the FTC Web site, to the extent practicable, at http://www.ftc.gov/os/publiccomments.shtm. As a matter of discretion, the FTC makes every effort to remove home contact information for individuals from the public comments it receives before placing those comments on the FTC Web site. More information, including routine uses permitted by the Privacy Act, may be found in the FTC's privacy policy, at http://www.ftc.gov/ftc/privacy.htm.

Because written comments appear adequate to present the views of all interested parties, the Commission has not scheduled an oral hearing regarding these proposed amendments. Interested parties may request an opportunity to present views orally. If such a request is made, the Commission will publish a document in the Federal Register stating the time and place for such oral presentation(s) and describing the procedures that will be followed. Interested parties who wish to present oral views must submit a hearing request, on or before February 1, 2013, in the form of a written comment that describes the issues on which the party wishes to speak. If there is no oral hearing, the Commission will base its decision on the written rulemaking record.

IV. Paperwork Reduction Act

The current Rule contains recordkeeping, disclosure, testing, and reporting requirements that constitute information collection requirements as defined by 5 CFR 1320.3(c), the definitional provision within the Office of Management and Budget (OMB) regulations that implement the Paperwork Reduction Act (PRA). OMB has approved the Rule's existing information collection requirements through Jan. 31, 2014 (OMB Control No. 3084 0069). The proposed amendments do not change the substance or frequency of the recordkeeping, disclosure, or reporting requirements and, therefore, do not require further OMB clearance.

V. Regulatory Flexibility Act

The provisions of the Regulatory Flexibility Act relating to a Regulatory Flexibility Act analysis (5 U.S.C. 603-604) are not applicable to this proceeding because the amendments do not impose any new obligations on entities regulated by the Appliance Labeling Rule. As explained in detail elsewhere in this document, the proposed exemption and amendments do not significantly change the substance or frequency of the recordkeeping, disclosure, or reporting requirements. Thus, the amendments will not have a “significant economic impact on a substantial number of small entities.” 5 U.S.C. 605. The Commission has concluded, therefore, that a regulatory flexibility analysis is not necessary, and certifies, under Section 605 of the Regulatory Flexibility Act (5 U.S.C. 605(b)), that the amendments announced today will not have a significant economic impact on a substantial number of small entities.

Proposed Rule Language

List of Subjects in 16 CFR Part 305

Advertising, Energy conservation, Household appliances, Labeling, Reporting and recordkeeping requirements.

For the reasons set out in the preamble, the Commission proposes to amend 16 CFR part 305 as follows:

PART 305—RULE CONCERNING DISCLOSURES REGARDING ENERGY CONSUMPTION AND WATER USE OF CERTAIN HOME APPLIANCES AND OTHER PRODUCTS REQUIRED UNDER THE ENERGY POLICY AND CONSERVATION ACT (“APPLIANCE LABELING RULE”)

1. The authority citation for part 305 continues to read as follows:

Authority: 42 U.S.C. 6294.

2. In § 305.7, revise paragraph (g) to read as follows:

§ 305.7 Determinations of capacity.

* * * * *

(g) Clothes washers. The capacity shall be the tub capacity as determined according to Department of Energy test procedures in 10 CFR part 430, subpart B, expressed in the terms of volume in cubic feet and the designations of “standard” or “compact” as determined pursuant to those regulations.

* * * * *

3. In § 305.10, revise paragraphs (a) and (b) to read as follows:

§ 305.10 Ranges of comparability on the required labels.

(a) Range of estimated annual energy costs or energy efficiency ratings. The range of estimated annual operating costs or energy efficiency ratings for each covered product (except televisions, fluorescent lamp ballasts, lamps, showerheads, faucets, water closets and urinals) shall be taken from the appropriate appendix to this part in effect at the time the labels are affixed to the product. The Commission shall publish revised ranges in the Federal Register in 2017. When the ranges are revised, all information disseminated after 90 days following the publication of the revision shall conform to the revised ranges. Products that have been labeled prior to the effective date of a modification under this section need not be relabeled.

(b) Representative average unit energy cost. The Representative Average Unit Energy Cost to be used on labels as required by § 305.11 and disclosures as required by § 305.20 are listed in appendix K to this part, except the electricity and gas cost to be used on labels for refrigerators, refrigerator-freezers, and freezers distributed before September 15, 2014 and labels for clothes washers distributed before March 7, 2015 shall be 10.65 cents per kWh and 1.218 dollars per therm. The Commission shall publish revised Representative Average Unit Energy Cost figures in the Federal Register in 2017. When the cost figures are revised, all information disseminated after 90 days following the publication of the revision shall conform to the new cost figure.

* * * * *

4. In § 305.11, revise paragraphs (f)(5) and (9) and redesignate paragraphs (f)(11) and (12) as paragraphs (f)(10) and (11), respectively.

The revisions read as follows:

§ 305.11 Labeling for refrigerators, refrigerator-freezers, freezers, dishwashers, clothes washers, water heaters, room air conditioners, and pool heaters.

* * * * *

(f) * * *

(5) Estimated annual operating costs for refrigerators, refrigerator-freezers, freezers, clothes washers, dishwashers, room air conditioners, and water heaters are as determined in accordance with §§ 305.5 and 305.10 of this part. Thermal efficiencies for pool heaters are as determined in accordance with § 305.5. Labels for clothes washers and dishwashers must disclose estimated annual operating cost for both electricity and natural gas as illustrated in the sample labels in appendix L.

* * * * *

(9) Labels must contain a statement explaining information on the label as illustrated in the prototype labels in appendix L and specified as follows by product type:

(i) For refrigerators, refrigerator-freezers, and freezers, the statement will read as follows (fill in the blanks with the appropriate year and energy cost figures):

Your costs will depend on your utility rates and use.

[Insert statement required by § 305.11(f)(9)(ii)].

Estimated energy cost is based on a national average electricity cost of __ cents per kWh.

For more information, visit www.ftc.gov/energy.

(ii) For refrigerators, refrigerator-freezers, and freezers, the following sentence shall be included as part of the statement required by § 305.11(f)(9)(i):

(A) For models covered under appendix A1, the sentence shall read:

Cost range based only on models of similar capacity with automatic defrost.

(B) For models covered under appendix A2, the sentence shall read:

Cost range based only on models of similar capacity with manual defrost.

(C) For models covered under appendix A3, the sentence shall read:

Cost range based only on models of similar capacity with partial automatic defrost.

(D) For models covered under appendix A4, the sentence shall read:

Cost range based only on models of similar capacity with automatic defrost, top-mounted freezer, and without through-the-door ice.

(E) For models covered under appendix A5, the sentence shall read:

Cost range based only on models of similar capacity with automatic defrost, side-mounted freezer, and without through-the-door ice.

(F) For models covered under appendix A6, the sentence shall read:

Cost range based only on models of similar capacity with automatic defrost, bottom-mounted freezer, and without through-the-door ice.

(G) For models covered under appendix A7, the sentence shall read:

Cost range based only on models of similar capacity with automatic defrost, top-mounted freezer, and through-the-door ice.

(H) For models covered under appendix A8, the sentence shall read:

Cost range based only on models of similar capacity with automatic defrost, side-mounted freezer, and through-the-door ice.

(I) For models covered under appendix B1, the sentence shall read:

Cost range based only on upright freezer models of similar capacity with manual defrost.

(J) For models covered under appendix B2, the sentence shall read:

Cost range based only on upright freezer models of similar capacity with automatic defrost.

(K) For models covered under appendix B3, the sentence shall read:

Cost range based only on chest and other freezer models of similar capacity.

(iii) For room air conditioners covered under appendix E, the statement will read as follows (fill in the blanks with the appropriate model type, year, energy type, and energy cost figure):

Your costs will depend on your utility rates and use.

Cost range based only on models [of similar capacity without reverse cycle and with louvered sides; of similar capacity without reverse cycle and without louvered sides; with reverse cycle and with louvered sides; or with reverse cycle and without louvered sides].

Estimated energy cost is based on a national average electricity cost of __ cents per kWh and 750 hours of operation per year.

For more information, visit www.ftc.gov/energy.

(iv) For water heaters covered by Appendices D1, D2, and D3, the statement will read as follows (fill in the blanks with the appropriate fuel type, year, and energy cost figures):

Your costs will depend on your utility rates and use.

Cost range based only on models of similar capacity fueled by [natural gas, oil, propane, or electricity]. Estimated energy cost is based on a national average [electricity, natural gas, propane, or oil] cost of [___ cents per kWh or $__ per therm or gallon].

For more information, visit www.ftc.gov/energy.

(v) For instantaneous water heaters (appendix D4 and D6) and heat pump water heaters (appendix D5), the statement will read as follows (fill in the blanks with the appropriate model type, the operating cost, the year, and the energy cost figures):

Your costs will depend on your utility rates and use.

Cost range based only on [instantaneous gas water heater or heat pump water heater] models of similar capacity. Estimated energy cost is based on a national average [electricity, natural gas, or propane] cost of [__ cents per kWh or $__ per therm or gallon].

For more information, visit www.ftc.gov/energy.

(vi) For clothes washers and dishwashers covered by appendices C1, C2, F1, and F2, the statement will read as follows (fill in the blanks with the appropriate appliance type, the energy cost, the number of loads per week, the year, and the energy cost figures):

Your costs will depend on your utility rates and use.

Cost range based only on [compact/standard] capacity models.

Estimated energy cost is based on [4 washloads a week for dishwashers, or 6 washloads a week for clothes washers] and a national average electricity cost of __ cents per kWh and natural gas cost of $__ per therm.

For more information, visit www.ftc.gov/energy.

(vii) For pool heaters covered under appendices J1 and J2, the statement will read as follows:

Efficiency range based only on models fueled by [natural gas or oil].

For more information, visit www.ftc.gov/energy.

* * * * *

5. Appendix C1 to Part 305 is revised to read as follows:

Appendix C1 to Part 305—Compact Dishwashers

Range Information

“Compact” includes countertop dishwasher models with a capacity of fewer than eight (8) place settings. Place settings shall be in accordance with appendix C to 10 CFR part 430, subpart B. Load patterns shall conform to the operating normal for the model being tested.

Capacity | Range of estimated annual energy costs (dollars/year): Low | Range of estimated annual energy costs (dollars/year): High
Compact | $18 | $27

6. Appendix C2 to Part 305 is revised to read as follows:

Appendix C2 to Part 305—Standard Dishwashers

Range Information

“Standard” includes dishwasher models with a capacity of eight (8) or more place settings. Place settings shall be in accordance with appendix C to 10 CFR part 430, subpart B. Load patterns shall conform to the operating normal for the model being tested.

Capacity | Range of estimated annual energy costs (dollars/year): Low | Range of estimated annual energy costs (dollars/year): High
Standard | $21 | $41

7. Appendices D1 through D5 to Part 305 are revised and Appendix D6 is added to read as follows:

Appendix D1 to Part 305—Water Heaters—Gas

Range Information

Capacity: First hour rating | Range of estimated annual energy costs (dollars/year): Natural gas ($/year): Low | Range of estimated annual energy costs (dollars/year): Natural gas ($/year): High | Range of estimated annual energy costs (dollars/year): Propane ($/year): Low | Range of estimated annual energy costs (dollars/year): Propane ($/year): High
Less than 21 | * | * | * | *
21 to 24 | * | * | * | *
25 to 29 | * | * | * | *
30 to 34 | * | * | * | *
35 to 40 | * | * | * | *
41 to 47 | * | * | * | *
48 to 55 | $248 | $269 | $655 | $712
56 to 64 | $257 | $269 | $678 | $712
65 to 74 | $237 | $273 | $627 | $724
75 to 86 | $237 | $288 | $627 | $724
87 to 99 | $248 | $288 | $645 | $763
100 to 114 | $241 | $300 | $637 | $763
115 to 131 | $241 | $331 | $637 | $791
Over 131 | $269 | $331 | $712 | $876
* No data submitted.

Appendix D2 to Part 305—Water Heaters—Electric

Range Information

Capacity: First hour rating | Range of estimated annual energy costs (dollars/year): Low | Range of estimated annual energy costs (dollars/year): High
Less than 21 | $567 | $567
21 to 24 | * | *
25 to 29 | $567 | $567
30 to 34 | $567 | $573
35 to 40 | $561 | $573
41 to 47 | $555 | $599
48 to 55 | $555 | $599
56 to 64 | $555 | $585
65 to 74 | $555 | $599
75 to 86 | $555 | $613
87 to 99 | $567 | $620
100 to 114 | $579 | $651
115 to 131 | $613 | $635
Over 131 | * | *
* No data submitted.

Appendix D3 to Part 305—Water Heaters—Oil

Range Information

Capacity: First hour rating | Range of estimated annual energy costs (dollars/year): Low | Range of estimated annual energy costs (dollars/year): High
Less than 65 | * | *
65 to 74 | * | *
75 to 86 | * | *
87 to 99 | * | *
100 to 114 | $703 | $808
115 to 131 | $663 | $856
Over 131 | $642 | $856
* No data submitted.

Appendix D4 to Part 305—Water Heaters—Instantaneous—Gas

Range Information

Capacity: Capacity (maximum flow rate); gallons per minute (gpm) | Range of estimated annual energy costs (dollars/year): Natural gas ($/year): Low | Range of estimated annual energy costs (dollars/year): Natural gas ($/year): High | Range of estimated annual energy costs (dollars/year): Propane ($/year): Low | Range of estimated annual energy costs (dollars/year): Propane ($/year): High
Under 1.00 | $248 | $248 | $655 | $655
1.00 to 2.00 | $248 | $248 | $627 | $627
2.01 to 3.00 | $171 | $231 | $499 | $609
Over 3.00 | $167 | $204 | $435 | $532
* No data submitted.

Appendix D5 to Part 305—Water Heaters—Heat Pump

Range Information

Capacity: First hour rating | Range of estimated annual energy costs (dollars/year): Low | Range of estimated annual energy costs (dollars/year): High
Less than 21 | * | *
21 to 24 | * | *
25 to 29 | * | *
30 to 34 | * | *
35 to 40 | * | *
41 to 47 | * | *
48 to 55 | * | *
56 to 64 | * | *
65 to 74 | * | *
75 to 86 | * | *
87 to 99 | * | *
100 to 114 | * | *
115 to 131 | * | *
Over 131 | * | *
* No data submitted.

Appendix D6 to Part 305—Water Heaters—Instantaneous—Electric

Range Information

Capacity: Capacity (maximum flow rate); gallons per minute (gpm) | Range of estimated annual energy costs (dollars/year): Low | Range of estimated annual energy costs (dollars/year): High
Under 1.00 | $532 | $532
1.00 to 2.00 | $532 | $532
2.01 to 3.00 | * | *
Over 3.00 | * | *
* No data submitted.

8. Appendix E to Part 305 is revised to read as follows:

Appendix E to Part 305—Room Air Conditioners

Range Information

Manufacturer's rated cooling capacity in Btu's/yr | Range of estimated annual energy costs (dollars/year): Low | Range of estimated annual energy costs (dollars/year): High
Without Reverse Cycle and with Louvered Sides:
Less than 6,000 Btu | $42 | $48
6,000 to 7,999 Btu | $50 | $72
8,000 to 13,999 Btu | $66 | $115
14,000 to 19,999 Btu | $117 | $195
20,000 and more Btu | $169 | $382
Without Reverse Cycle and without Louvered Sides:
Less than 6,000 Btu | * | *
6,000 to 7,999 Btu | $56 | $72
8,000 to 13,999 Btu | $73 | $138
14,000 to 19,999 Btu | $140 | $166
20,000 and more Btu | * | *
With Reverse Cycle and with Louvered Sides | $71 | $225
With Reverse Cycle, without Louvered Sides | $89 | $126
* No data submitted.

9. Appendices J1 and J2 to part 305 are revised to read as follows:

Appendix J1 to Part 305—Pool Heaters—Gas

Range Information

Manufacturer's rated heating capacities | Range of thermal efficiencies (percent): Natural gas: Low | Range of thermal efficiencies (percent): Natural gas: High | Range of thermal efficiencies (percent): Propane: Low | Range of thermal efficiencies (percent): Propane: High
All capacities | 78.2 | 95.0 | 78.2 | 95.0

Appendix J2 to Part 305—Pool Heaters—Oil

Range Information

Manufacturer's rated heating capacities | Range of thermal efficiencies (percent): Low | Range of thermal efficiencies (percent): High
All capacities | * | *
* No data submitted.

10. Appendix K to part 305 is revised to read as follows:

Appendix K to Part 305—Representative Average Unit Energy Costs

This Table contains the representative unit energy costs that must be utilized to calculate estimated annual energy cost disclosures required under §§ 305.11 and 305.20. This Table is based on information published by the U.S. Department of Energy in 2012. Unless otherwise indicated by the Commission, this table will be revised in 2017.

Unit Costs of Energy for Use on EnergyGuide Labels Required by § 305.11
Type of energy | In commonly used terms | As required by DOE test procedure | Dollars per million Btu ¹
Electricity | 12.00¢/kWh ²,³ | $.1200/kWh | $34.70
Natural Gas | $1.06/therm ⁴ $10.59/MCF ⁵,⁶ | $0.00001035/Btu | $10.35
No. 2 heating oil | $4.04/gallon ⁷ | $0.00002912/Btu | $29.12
Propane | $2.56/gallon ⁸ | $0.00002803/Btu | $28.03
Kerosene | $4.35/gallon ⁹ | $0.00003222/Btu | $32.22
¹ Btu stands for British thermal unit.
² kWh stands for kiloWatt hour.
³ 1 kWh = 3,412 Btu.
⁴ 1 therm = 100,000 Btu. Natural gas prices include taxes.
⁵ MCF stands for 1,000 cubic feet.
⁶ For the purposes of this table, 1 cubic foot of natural gas has an energy equivalence of 1,023 Btu.
⁷ For the purposes of this table, 1 gallon of No. 2 heating oil has an energy equivalence of 138,690 Btu.
⁸ For the purposes of this table, 1 gallon of liquid propane has an energy equivalence of 91,333 Btu.
⁹ For the purposes of this table, 1 gallon of kerosene has an energy equivalence of 135,000 Btu.

By direction of the Commission.

Donald S. Clark,
Secretary.

[FR Doc. 2013-00113 Filed 1-8-13; 8:45 am]

BILLING CODE 6750-01-P